DEPARTMENT OF THE INTERIOR

Bureau of Reclamation

Agency Information Collection; Proposed Revisions to a Currently Approved Information Collection; Comment Request

AGENCY: Bureau of Reclamation, Interior.

ACTION: Notice of renewal of a currently approved collection (OMB No. 1006-0005).

SUMMARY: In accordance with the Paperwork Reduction Act of 1995 (44 U.S.C. 3501 et seq.), the Bureau of Reclamation (we, our, or us) intends to submit a request for renewal (with revisions) of an existing approved information collection to the Office of Management and Budget (OMB): Individual Landholder's and Farm Operator's Certification and Reporting Forms for Acreage Limitation, 43 CFR part 426 and 43 CFR part 428, OMB Control Number: 1006-0005. We request your comments on the revised RRA forms and specific aspects of the information collection.

DATES: Your written comments must be received on or before November 29, 2010.

ADDRESSES: You may send written comments to the Bureau of Reclamation, Attention: 84-53000, P.O. Box 25007, Denver, CO 80225-0007. You may request copies of the proposed revised forms by writing to the above address or by contacting Stephanie McPhee at: (303) 445-2897.

FOR FURTHER INFORMATION CONTACT: Stephanie McPhee at: (303) 445-2897.

SUPPLEMENTARY INFORMATION: Title: Individual Landholder's and Farm Operator's Certification and Reporting Forms for Acreage Limitation, 43 CFR part 426 and 43 CFR part 428.

Abstract: This information collection is required under the Reclamation Reform Act of 1982 (RRA), Acreage Limitation Rules and Regulations, 43 CFR part 426, and Information Requirements for Certain Farm Operations In Excess of 960 Acres and the Eligibility of Certain Formerly Excess Land, 43 CFR part 428. This information collection requires certain landholders (direct or indirect landowners or lessees) and farm operators to complete forms demonstrating their compliance with the acreage limitation provisions of Federal reclamation law. The forms in this information collection are submitted to districts that use the information to establish each landholder's status with respect to landownership limitations, full-cost pricing thresholds, lease requirements, and other provisions of Federal reclamation law. In addition, forms are submitted by certain farm operators to provide information concerning the services they provide and the nature of their farm operating arrangements. All landholders whose entire westwide landholdings total 40 acres or less are exempt from the requirement to submit RRA forms. Landholders who are “qualified recipients” have RRA forms submittal thresholds of 80 acres or 240 acres depending on the district's RRA forms submittal threshold category where the land is held. Only farm operators who provide multiple services to more than 960 acres held in trusts or by legal entities are required to submit forms.

Changes to the RRA Forms and the Instructions to Those Forms

The changes made to the currently approved RRA forms and the corresponding instructions are editorial in nature and are designed to assist the respondents by increasing their understanding of the forms, clarifying the instructions for use when completing the forms, and clarifying the information that is required to be submitted to the districts with the forms. The proposed revisions to the RRA forms will be effective in the 2012 water year.

Frequency: Annually.

Respondents: Landholders and farm operators of certain lands in our projects, whose landholdings exceed specified RRA forms submittal thresholds.

Estimated Total Number of Respondents: 15,279.

Estimated Number of Responses per Respondent: 1.02.

Estimated Total Number of Annual Responses: 15,585.

Estimated Total Annual Burden on Respondents: 11,522 hours.

Estimate of Burden for Each Form:

Form No. | Burden estimate per form (in minutes) | Number of respondents | Annual number of responses | Annual burden on respondents (in hours)
Form 7-2180 | 60 | 4,124 | 4,206 | 4,206
Form 7-2180EZ | 45 | 425 | 434 | 326
Form 7-2181 | 78 | 1,205 | 1,229 | 1,598
Form 7-2184 | 45 | 32 | 33 | 25
Form 7-2190 | 60 | 1,620 | 1,652 | 1,652
Form 7-2190EZ | 45 | 96 | 98 | 74
Form 7-2191 | 78 | 777 | 793 | 1,031
Form 7-2194 | 45 | 4 | 4 | 3
Form 7-21PE | 75 | 146 | 149 | 186
Form 7-21PE-IND | 12 | 4 | 4 | 1
Form 7-21TRUST | 60 | 882 | 900 | 900
Form 7-21VERIFY | 12 | 5,434 | 5,543 | 1,109
Form 7-21FC | 30 | 214 | 218 | 109
Form 7-21XS | 30 | 144 | 147 | 74
Form 7-21FARMOP | 78 | 172 | 175 | 228
Totals |  | 15,279 | 15,585 | 11,522

Comments

Comments are invited on:

(a) Whether the proposed collection of information is necessary for the proper performance of our functions, including whether the information will have practical use;

(b) Accuracy of our burden estimate for the proposed collection of information;

(c) Ways to enhance the quality, usefulness, and clarity of the information to be collected; and

(d) Ways to minimize the burden of the collection of information on respondents, including the use of automated collection techniques or other forms of information technology.

We will summarize all comments received regarding this notice. We will publish that summary in the Federal Register when the information collection request is submitted to OMB for review and approval.

Before including your address, telephone number, e-mail address, or other personal identifying information in your comment, you should be aware that your entire comment—including your personal identifying information—may be made publicly available at any time. While you can ask us in your comment to withhold your personal identifying information from public review, we cannot guarantee that we will be able to do so.

Roseann Gonzales,
Director, Policy and Administration, Denver Office.

[FR Doc. 2010-24263 Filed 9-27-10; 8:45 am]

BILLING CODE 4310-MN-P